NUCLEAR REGULATORY COMMISSION

[Docket No. 70-7001; NRC-2013-0099]

United States Enrichment Corporation, Paducah Gaseous Diffusion Plant

AGENCY: Nuclear Regulatory Commission.

ACTION: Notice of Certificate renewal request and opportunity to comment.

SUMMARY: By letter dated April 2, 2013, the United States Enrichment Corporation (USEC) submitted its Application for Renewal of its Certificate of Compliance (CoC) for the Paducah Gaseous Diffusion Plant (PGDP). The existing CoC (No. GDP-1) authorizes operation of a uranium enrichment facility in Paducah, Kentucky. The Certificate currently has an expiration date of December 31, 2013. The USEC requests that the U.S. Nuclear Regulatory Commission (NRC) renew the Certificate for a 5-year period, with an expiration date of December 31, 2018.

DATES: Submit comments by June 21, 2013. Comments received after this date will be considered, if it is practical to do so, but the NRC staff is able to ensure consideration only for comments received on or before this date.

ADDRESSES: You may submit comment by any of the following methods (unless this document describes a different method for submitting comments on a specific subject):

• Federal Rulemaking Web site: Go to http://www.regulations.gov and search for Docket ID NRC-2013-0099. Address questions about NRC dockets to Carol Gallagher; telephone: 301-492-3668; email: Carol.Gallagher@nrc.gov. For technical questions, contact the individual(s) listed in the FOR FURTHER INFORMATION CONTACT section of this document.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

SUPPLEMENTARY INFORMATION:

I. Accessing Information and Submitting Comments

A. Accessing Information

Please refer to Docket ID NRC-2013-0099 when contacting the NRC about the availability of information regarding USEC's renewal request. You may access information related to this request, which the NRC possesses and is publicly-available, by the following methods:

• Federal Rulemaking Web site: Go to http://www.regulations.gov and search for Docket ID NRC-2013-0099.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for USEC's renewal request is provided in Section III below.

• NRC's PDR: You may examine and purchase copies of public documents at the NRC's PDR, Room O1-F21, One White Flint North, 11555 Rockville Pike, Rockville, Maryland 20852.

B. Submitting Comments

Please include Docket ID NRC-2013-0099 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

FOR FURTHER INFORMATION CONTACT: Mr. Osiris Siurano-Perez, Office of Nuclear Material Safety and Safeguards, U.S. Nuclear Regulatory Commission, Washington, DC 20555-0001; telephone: 301-492-3117; email: Osiris.Siurano-Perez@nrc.gov.

II. Discussion

By letter dated April 2, 2013, USEC submitted its Application for Renewal of its, CoC for the PGDP, in accordance with Part 76 of Title 10 of the Code of Federal Regulations (10 CFR). The existing CoC (No. GDP-1) authorizes operation of a uranium enrichment facility in Paducah, Kentucky, using the gaseous diffusion process. The USEC requests that the NRC renew its Certificate for a 5-year period. If granted, the Certificate renewal would authorize USEC to continue operations until December 31, 2018.

The NRC issued the initial certificate of compliance for PGDP on November 26, 1996, and assumed regulatory oversight for the plant on March 3, 1997. The PGDP was last issued a renewed CoC on December 31, 2008, and, by its terms, this Certificate will expire on December 31, 2013. The USEC's renewal request is for a 5-year period, extending from the current expiration date of December 31, 2013, to December 31, 2018. The USEC's application for renewal is based on its previous Application (USEC-01), as revised through Revision 138 dated April 1, 2013. No additional changes to the application are requested.

If the NRC approves the request, the PGDP Certificate will be renewed for a 5-year period, with an expiration date of December 31, 2018. However, before approving the request, the NRC will need to make the findings required by the Atomic Energy Act of 1954, as amended (the Act), and the NRC's regulations. The required findings will be documented in a Compliance Evaluation Report.

In accordance with 10 CFR 76.39, the NRC will conduct a public meeting, in the vicinity of the PGDP, in July of 2013. Notice of the meeting will be posted on the NRC Web site, http://www.nrc.gov/public-involve/public-meetings/index.cfm.

Following evaluation of USEC's application for renewal and any public comments received, the NRC staff will issue a written Director's decision and publish a notice of the decision in the Federal Register. Upon publication of the notice of decision, any person whose interest may be affected may then request review of the decision within 30 days, pursuant to 10 CFR 76.62(c) or 76.64(d), whichever applies.

III. Further Information

Copies of USEC's Certificate renewal request (except for classified and proprietary portions which are withheld in accordance with 10 CFR 2.390, “Availability of Public Records”) are available for inspection at NRC's Public Electronic Reading Room at http://www.nrc.gov/reading-rm/adams.html, accession number ML13105A010. Documents may also be examined and/or copied for a fee, at the NRC's Public Document Room, located at One White Flint North, 11555 Rockville Pike, Rockville, MD 20852.

Dated at Rockville, Maryland this 10th day of May, 2013.
For the Nuclear Regulatory Commission,
Osiris Siurano-Perez,
Project Manager, Uranium Enrichment Branch, Division of Fuel Cycle Safety and Safeguards, Office of Nuclear Material Safety and Safeguards.

[FR Doc. 2013-12186 Filed 5-21-13; 8:45 am]

BILLING CODE 7590-01-P